ENVIRONMENTAL PROTECTION AGENCY

[FRL-8000-8]

Tribal Solid Waste Management Assistance Project: Request for Proposals

AGENCY: Environmental Protection Agency (EPA).

ACTION: Notice of availability.

SUMMARY: The Tribal Solid Waste Interagency Workgroup is soliciting proposals for its eighth year of the Tribal Solid Waste Management Assistance Project (previously called the Open Dump Cleanup Project). Since FY99, the Workgroup has funded over 100 projects with approximately $15.4 million. In FY05, the Interagency Workgroup made approximately $2 million available to fully or partially fund 20 selected projects. A similar amount of funding is projected for FY06. The Project is part of a Federal effort to help tribes comprehensively address their solid waste needs. The purpose of the Project is to assist with closing or upgrading tribal high-threat waste disposal sites and providing alternative disposal and integrated solid waste management. The Workgroup was established in April 1998 to coordinate Federal assistance to tribes in bringing their waste disposal sites into compliance with the municipal solid waste landfill criteria (40 CFR part 258). Current Workgroup members include representatives from the U.S. Environmental Protection Agency (EPA); the Bureau of Indian Affairs (BIA); the Indian Health Service (IHS); and the Departments of Agriculture and Defense.

DATES: For consideration, proposals must be postmarked by January 31, 2006 and received by EPA no later than February 10, 2006. Proposals received after the closing date will not be considered. Electronic submissions must be submitted no later than January 31, 2006. See the Guidance for Applicants package for more information on the submission deadline.

FOR FURTHER INFORMATION CONTACT: Copies of the Guidance for Applicants package may be downloaded from the Internet at http://www.epa.gov/tribalmsw by clicking on the “Grants/Funding” link. Copies may also be obtained by contacting EPA, IHS or BIA regional or area offices or one of the following Workgroup representatives:

EPA—Christopher Dege, 703-308-2392 or Charles Bearfighter Reddoor 703-308-8245.

IHS—Steve Aoyama, 301-443-1046.

BIA—Debbie McBride, 202-208-3606.

SUPPLEMENTARY INFORMATION: Criteria: Eligible recipients of assistance under The Open Dump Cleanup Project include federally recognized tribes and intertribal consortiums. A full explanation of the submittal process, the qualifying requirements, and the criteria that will be used to evaluate proposals for this project may be found in the Guidance for Applicants package.

Dated: November 16, 2005.
Matt Hale,
Director, Office of Solid Waste.

[FR Doc. 05-23226 Filed 11-22-05; 8:45 am]

BILLING CODE 6560-50-P